DEPARTMENT OF ENERGY

Federal Energy Regulatory Commission

[Docket No. RP06-360-000]

ProGas USA Inc., Complainant v. Iroquois Gas Transmission System L.P., Respondent; Notice of Complaint Requesting Fast Track Processing

May 17, 2006.

Take notice that on May 16, 2006, ProGas USA Inc. (Complainant), filed a complaint, pursuant to section 203 of the Commission's Rules of Practice and Procedure, 18 CFR 385.206, against Iroquois Gas Transmission System L.P. (Iroquois) alleging Iroquois unlawfully conducted two open seasons for the same capacity and unlawfully invalidated all of the valid bids in response to the first open season. The Complainant also requests fast track processing of this Complaint.

The Complainant states that a copy of the complaint has been served on Iroquois.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on May 31, 2006.

Magalie R. Salas,
Secretary.

[FR Doc. E6-7893 Filed 5-23-06; 8:45 am]

BILLING CODE 6717-01-P